ENVIRONMENTAL PROTECTION AGENCY

40 CFR Part 141

[EPA-HQ-OW-2021-0255; FRL 10022-33-OW]

RIN 2040-AF15

Lead and Copper Rule (LCRR) Virtual Engagements

AGENCY: Environmental Protection Agency (EPA).

ACTION: Announcement of events; request for public comment.

SUMMARY: The Environmental Protection Agency (EPA) will host virtual engagements beginning in April 2021. The goal of the events is to obtain further public input on EPA's revision to the Lead and Copper rule (LCRR), particularly from individuals and communities that are most at-risk of exposure to lead in drinking water. For more information on each event, visit EPA's drinking water website: www.epa.gov/safewater. For more information, go to the SUPPLEMENTARY INFORMATION section of this document.

DATES: Public listening sessions will be held on April 28, 2021 and May 5, 2021, from 10 a.m. to 10 p.m., eastern daylight time. Should additional dates and times be required, EPA will provide updates on our website: www.epa.gov/safewater. If you are unable to attend any of the events, you will be able to submit comments at http://www.regulations.gov: enter Docket ID No. EPA-HQ-OW-2021-0255 until June 30, 2021.

EPA will host virtual community-focused roundtables starting in May 2021. Virtual roundtables with stakeholder groups including drinking water utilities, environmental organizations, environmental justice organizations, public health organizations, and consumer associations will be held starting in June 2021. EPA also intends to host a national co-regulator meeting in July 2021 to discuss the feedback received from communities. Details and times for these engagements will be posted on EPA's drinking water website at: www.epa.gov/safewater.

ADDRESSES: Individuals, including those that attend and provide oral statements, are encouraged to send written statements, identified by Docket ID EPA-HQ-OW-2021-0255, by the following method:

• Federal eRulemaking Portal: https://www.regulations.gov/ (our preferred method). Follow the online instructions for submitting comments.

Instructions: All submissions received must include the Docket ID No. EPA-HQ-OW-2021-0255 for this EPA engagements. Comments received may be posted without change to https://www.regulations.gov/, including any personal information provided. For detailed instructions on sending comments and additional information on the rulemaking process, see the “Public Participation” heading of the SUPPLEMENTARY INFORMATION section of this document.

FOR FURTHER INFORMATION CONTACT: Christina Wadlington, USEPA, 1200 Pennsylvania Avenue NW, Washington, DC 20460; telephone number: 202-566-1859; email address: LCRR@epa.gov.

SUPPLEMENTARY INFORMATION:

I. Public Participation

A. Written Comments—No.

B. Submit your comments, identified by Docket ID EPA-HQ-OW-2021-0255, at https://www.regulations.gov. Once submitted, comments cannot be edited or removed from the docket. The EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For the full EPA public comment policy, information about CBI or multimedia submissions, and general guidance on making effective comments, please visit https://www.epa.gov/dockets/commenting-epa-dockets.

C. Details about Participating in the Listening Session:

The public is invited to speak during the April 28, 2021 or May 5, 2021 listening sessions. Those interested in speaking can sign up for a 3-minute time slot on EPA's website at https://www.epa.gov/safewater. EPA will send an email to each speaker to confirm their speaking time and date. EPA intends to make each session available for viewing to those who are not participating but are interested in listening. EPA will be posting additional event details on www.epa.gov/safewater, as they become available.

D. Details about Participating in the Community Roundtable:

EPA intends to host community virtual roundtables during which local organizations can participate in a discussion of LCRR related topics and provide their unique perspective to EPA. These roundtables will focus on communities that are disproportionately impacted by the challenges of lead in drinking water. EPA requests that communities that would like to be considered for a roundtable submit their nomination letter to EPA via email to LCRR@epa.gov not later than April 23, 2021. Nomination letters should include the following information:

• Name of location,

• Primary point of contact and contact information,

• A description of how your community has been underserved or experienced disproportionate impacts from drinking water lead exposure, and

• A list of no more than 25 recommended community participants and/or local organizations.

EPA recommends that the list of participants/organizations that are submitted be representative of all interests in their community including, but not limited to, local government entities, public water utilities, community-organized groups, environmental groups and elected officials. EPA intends to make each roundtable available for viewing to those who are not participating but are interested in listening. EPA will be posting meeting materials and additional event details on www.epa.gov/safewater, as they become available.

E. Details about Participating in Stakeholder Roundtables:

EPA intends to host stakeholder roundtables where representatives of national organizations (e.g., environmental, industry, consumer, intergovernmental) can participate in a discussion of LCRR related topics and provide their perspective to the Agency. EPA requests that organizations that would like to participate in a roundtable submit their nomination letter to EPA via email to LCRR@epa.gov not later than April 23, 2021. Nomination letters should include the following information:

• Name of organization,

• Primary point of contact and contact information, and

• Why your organization should be considered as a participant.

EPA intends to make each roundtable available for viewing to those who are not participating but are interested in listening. EPA will be posting meeting materials and additional event details on www.epa.gov/safewater, as they become available.

F. Details of National Co-Regulator Meeting:

EPA will be reaching out directly to primacy agencies (e.g., states, tribes, territories) with a specific date, time, and details of this meeting in the coming months. EPA will be posting meeting materials and additional event details on www.epa.gov/safewater, as they become available.

II. Revised LCR Extension

On March 12, 2021, EPA announced that it is extending the effective date of the Revised Lead and Copper Rule (LCRR) so that the agency can seek further public input, particularly from communities that are most at-risk of exposure to lead in drinking water. To accomplish this goal, EPA published in the Federal Register two rules regarding the revised LCR as follows: Final Rule delay of effective date (86 FR 14003, March 12, 2021); and Proposed Rule delay of effective and compliance dates (86 FR 14063, March 12, 2021).

The first is a final rule that announced an extension of the effective date for the revised LCR from March 16, 2021 until June 17, 2021. The purpose of this initial extension of the effective date is to enable EPA to take public comment on a second action that would provide a longer extension of the effective date to allow EPA to undertake its review of the rule in a deliberate and thorough manner, consistent with the public health purposes of the Safe Drinking Water Act, President Biden's Executive Order on Protecting Public Health and the Environment and Restoring Science to Tackle the Climate Crisis, the President's Chief of Staff's Regulatory Freeze Pending Review Memorandum, and in consultation with affected stakeholders. The second action is a proposed rulemaking to extend the effective date until December 16, 2021, and also proposes a corresponding extension of the revised LCR's compliance deadline to September 16, 2024. This action would provide time for EPA to complete its review and obtain additional stakeholder input but would also ensure that drinking water systems and primacy states continue to have adequate time as provided by the Safe Drinking Water Act to take actions needed to assure regulatory compliance. The request for public comment on these extensions, which closes on April 12, is separate from the stakeholder meetings EPA is announcing in this action.

Yu-Ting Guilaran,
Acting Director, Office of Ground Water and Drinking Water.

[FR Doc. 2021-06926 Filed 4-2-21; 8:45 am]

BILLING CODE 6560-50-P